DEPARTMENT OF THE INTERIOR

National Park Service

[NPS-IMR-ROMO-32794; PPIMROMO6P,PPMPSAS1Z.YP0000]

Conversion of Potential Wilderness to Designated Wilderness, Rocky Mountain National Park

AGENCY: National Park Service, Interior.

ACTION: Notice of conversion of potential wilderness to designated wilderness.

SUMMARY: Pursuant to the Wilderness Act of 1964 and Public Law 111-11, the Secretary of the Interior has determined that all uses inconsistent with wilderness designation on certain parcels of land designated as “potential wilderness” within Rocky Mountain National Park have ceased, and these lands are now suitable to be designated and managed as wilderness. These lands consist of: (1) 7.12 acres, more or less, in the Cascade Cottages Property (portion of NPS Tract 02-108) as depicted on Map No. 121/138,853A dated July 15, 2021, and (2) 30.54 acres, more or less, in the Wild Basin Area (portions of NPS Tracts 05-107, 05-108, 05-111 and 05-112) as depicted on Map No. 121/176,793 dated July 15, 2021. Upon this notification in the Federal Register these lands will be converted to designated wilderness and will be managed as wilderness under the Wilderness Act.

ADDRESSES: The maps and legal descriptions are on file at Rocky Mountain National Park Headquarters, 1000 U.S. Hwy. 36 Estes Park, CO 80517.

FOR FURTHER INFORMATION CONTACT: Cheri Yost, Cheri_yost@nps.gov, Park Planner, Rocky Mountain National Park, 1000 E Highway 36, Estes Park, CO 80517, (970) 586-1320.

SUPPLEMENTARY INFORMATION: Public Law 111-11 § 1952 (123 Stat. 1071), designated approximately 249,339 acres as wilderness in Rocky Mountain National Park. In January 2010, as required by the designating legislation, the National Park Service prepared a map and boundary description, Map No. 121/101,335A, entitled “Rocky Mountain National Park Wilderness Boundary Descriptions,” which included areas identified as “potential wilderness.”

Section 1952(c) of Public Law 111-11 provides that upon publication in the Federal Register of a notice by the Secretary that all uses inconsistent with the Wilderness Act have ceased on the land identified on the map as a “Potential Wilderness Area”, the land shall be included in the designated wilderness area and administered as wilderness under the Wilderness Act (16 U.S.C. 1131 et seq.). This notice serves as the formal determination that all formerly prohibited activities have ceased. Because such lands fully comply with Congressional directions in section 1952(c) of Public Law 111-11, this notice converts a total of 37.66 acres, more or less, from potential wilderness to designated wilderness. This acreage will be added to the National Wilderness Preservation System and bring the total designated wilderness acreage of the Rocky Mountain National Park Wilderness to 249,164 acres, more or less, with 325 acres, more or less, of potential wilderness acreage remaining. The potential wilderness lands hereby reclassified as designated wilderness by this notice are described as:

Cascade Cottages Property

All of that portion of NPS Tract 02-108 lying 400 feet northwesterly of the center line of US Highway 34, containing 7.12 acres, more or less.

Wild Basin Area

All of those portions of NPS Tracts 05-107, 05-108, 05-111 and 05-112 lying 100 feet from the center line of all roads and structures and 30 feet from the center line of the existing power line that serves the Wild Basin Area, containing 30.54 acres, more or less.

Charles F. Sams, III,
Director, National Park Service.

[FR Doc. 2022-15359 Filed 7-18-22; 8:45 am]

BILLING CODE 4312-52-P